FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 4, 2009.

A. Federal Reserve Bank of St. Louis (Glenda Wilson, Community Affairs Officer) P.O. Box 442, St. Louis, Missouri 63166-2034:

1. Charles S. Penick, Mary M. Penick, and the Charles S. Penick Mary M. Penick Revocable Trust, with Charles and Mary Penick as Trustees, both of Morrilton, Arkansas; acting in concert to retain voting shares of Petit Jean Bancshares, Inc., and thereby indirectly retain voting shares of Petit Jean State Bank, both of Morrilton, Arkansas.

B. Federal Reserve Bank of Chicago (Colette A. Fried, Assistant Vice President) 230 South LaSalle Street, Chicago, Illinois 60690-1414:

1. Laura G. Gard Revocable Living Trust, Laura G. Gard, Trustee, Marshall, Illinois; to acquire additional voting shares of Herky Hawk Financial Corp., Monticello, Iowa, and thereby inidrectly acquire additional voting shares of Citizens State Bank, Monticello, Iowa, and New Vienna Savings Bank, New Vienna, Iowa.

Board of Governors of the Federal Reserve System, August 17, 2009.
Robert deV. Frierson,
Deputy Secretary of the Board.

[FR Doc. E9-19993 Filed 8-19-09; 8:45 am]

BILLING CODE 6210-01-S